DEPARTMENT OF ENERGY

Federal Energy Regulatory Commission

[Docket No. IC21-35-000]

Commission Information Collection Activities (Ferc-587 Comment Request; Extension)

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-587 (Land Description: Public Land States/Non-Public Land States), which will be submitted to the Office of Management and Budget (OMB) for a review of the information collection requirements.

DATES: Comments on the collection of information are due December 2, 2021.

ADDRESSES: Send written comments on FERC-587 to OMB through www.reginfo.gov/public/do/PRAMain, Attention: Federal Energy Regulatory Commission Desk Officer. Please identify the OMB control number (1902-0145) in the subject line. Your comments should be sent within 30 days of publication of this notice in the Federal Register.

Please submit copies of your comments (identified by Docket No. IC21-35-000) to the Commission as noted below. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions:

OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION: Title: Land Description: Public Land States/Non-Public Land States.

OMB Control No.: 1902-0145.

Type of Request: Three-year extension of FERC-587.

Abstract: Section 24 of the Federal Power Act (FPA) ¹ requires the Commission to conduct this collection of information, which pertains to applications proposing hydropower projects, or changes to existing hydropower projects, within “lands of the United States.” FERC Form 587 consolidates the required information, including a description of the applicable U.S. lands and identification of hydropower project boundary maps associated with the applicable U.S. lands. An applicant must send FERC Form 587 both to the Commission and to the Bureau of Land Management (BLM) ² state office where the project is located. The information consolidated in FERC Form 587 facilitates the reservation of U.S. lands as hydropower sites and the withdrawal of such lands from other uses.

¹ 16 U.S.C. 818.

² The Bureau of Land Management is within the U.S. Department of the Interior.

Type of Respondents: Applicants proposing hydropower projects, or changes to existing hydropower projects, within lands of the United States.

Estimate of Annual Burden: The Commission estimates 70 responses, 70 hours, and $6,090 in costs annually for respondents. These burdens are itemized in the following table:

A. Number of respondents | B. Annual number of responses per respondent | C. Total number of responses | D. Average hour burden & cost per response ³ | E. Total annual burden hours & total annual cost | F. Cost per respondent ($)
|  | (column A × column B) |  | (column C × column D) | (column E ÷ column A)
70 | 1 | 70 | 1 hour; $87.00 | 70 hours; $6,090 | $87.00

Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ Commission staff estimates that the average industry hourly cost for this information collection is approximated by the current FERC 2021 average hourly costs for wages and benefits, i.e., $87.00/hour.

Dated: October 27, 2021.
Kimberly D. Bose,
Secretary.

[FR Doc. 2021-23861 Filed 11-1-21; 8:45 am]

BILLING CODE 6717-01-P